DEPARTMENT OF ENERGY

Federal Energy Regulatory Commission

[Project No. 619-164]

Notice of Environmental Site Review: Pacific Gas and Electric Company and the City of Santa Clara

On Tuesday, October 16, 2018, the Federal Energy Regulatory Commission (FERC) staff and the Pacific Gas and Electric Company and the City of Santa Clara (licensees) will conduct an environmental site review of the Bucks Creek Hydropower Project. The project is located on Bucks, Grizzly, and Milk Ranch Creeks in Plumas County, California.

The site review is open to the public, Indian Tribes, and resource agencies and will occur from 9:00 a.m. to about 4:00 p.m. (Pacific Daylight Time). The site review will leave from the Bucks Lakeshore Resort [16001 Bucks Lake Road, Quincy, California 95971, (530) 283-2848].

To better support the safety of the group, and to the extent practicable, participants will be requested to carpool in vehicles provided by the licensees. Participants are asked not to attempt to join the site review after it departs the initial meeting location. Participants must wear appropriate footwear (i.e., no sandals or open-toed shoes) and should bring sun protection, water, and lunch. Some brief hiking over unimproved dirt trails may be necessary to access some sites.

To appropriately accommodate persons interested in attending the site review, participants must contact Alan Mitchnick, FERC Project Coordinator, at (202) 502-6074 or alan.mitchnick@ferc.gov, no later than Tuesday, October 9, 2018.

Dated: September 4, 2018.
Kimberly D. Bose,
Secretary.

[FR Doc. 2018-19560 Filed 9-7-18; 8:45 am]

BILLING CODE 6717-01-P